DEPARTMENT OF DEFENSE

Office of the Secretary

[Transmittal No. 23-0X]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(5)(C) arms sales notification is published to fulfill the requirements of section 155 of Public Law 104-164 dated July 21, 1996. The following is a copy of a letter to the Speaker of the House of Representatives with attached Transmittal 23-0X.

Dated: November 21, 2024.
Stephanie J. Bost,
Alternate OSD Federal Register Liaison Officer, Department of Defense.

BILLING CODE 6001-FR-P

BILLING CODE 6001-FR-P

Transmittal No. 23-0X

REPORT OF ENHANCEMENT OR UPGRADE OF SENSITIVITY OF TECHNOLOGY OR CAPABILITY (SEC. 36(B)(5)(C), AECA)

(i) Purchaser: Government of Spain

(ii) Sec. 36(b)(1), AECA Transmittal No.: 20-57

Date: September 2, 2020

Implementing Agency: Air Force

(iii) Description: On September 2, 2020, Congress was notified by Congressional certification transmittal number 20-57, of the possible sale under Section 36(b)(1) of the Arms Export Control Act, of one hundred (100) AIM-120C-7/8 Advanced Medium Range Air-to-Air Missiles (AMRAAM) and one (1) AMRAAM Guidance Section (spare). Also included were KGV-135A encryption devices; containers; weapon support and support equipment; spare and repair parts; publications and technical documentation; United States (U.S.) Government and contractor engineering, technical, and logistics support services; and other related elements of logistical and program support. The estimated total cost was $248.5 million. Major Defense Equipment (MDE) constituted $237.0 million of this total.

This transmittal notifies the addition of the following MDE items: six hundred fifty-five (655) AIM-120 C-8 Advanced Medium Range Air-to-Air Missiles (AMRAAM) or AIM-120 C-8 AMRAAM Extended Range Missiles (AMRAAM-ER); four (4) AIM-120C-8 AMRAAM Instrumented Test Vehicles (ITV); and thirteen (13) AIM-120 C-8 AMRAAM Guidance Sections (AMRAAM GS). Also included are AIM-120 Captive Air Training Missiles (CATM) and spare control sections; Common Munitions Built-in-Test (BIT)/Reprogramming Equipment (CMBRE); classified software delivery and support; transportation support; and studies and surveys. The estimated total value of the new items is $1.6835 billion. The estimated MDE value will increase by $1.5485 billion to a revised $1.7855 billion. The estimated non-MDE value will increase by $0.135 billion to a revised $0.1465 billion. The estimated total case value will increase to $1.932 billion.

(iv) Significance: This notification is being provided as the additional MDE items were not enumerated in the original notification. The inclusion of this MDE represents an increase in capability over what was previously notified. The proposed sale will improve Spain's capability to meet current and future threats by increasing its stocks of AMRAAMs for its fighter aircraft fleets and air defense in support of its national defense and will further strengthen interoperability with the U.S..

(v) Justification: This proposed sale will support the foreign policy and national security objectives of the United States by supporting the security and defense needs of a NATO Ally which is an important force for political stability and economic progress in Europe.

(vi) Sensitivity of Technology: The Advanced Medium Range Air-to-Air Missile-Extended Range (AMRAAM-ER) variant utilizes an AIM-120C-7 or C-8 seeker and warhead joined with a new control section and rocket rotor (for surface launch mode applications). This provides extended range and altitude as well as higher speed and maneuverability. Common Munitions Built-in-Test (BIT)/Reprogramming Equipment (CMBRE) is supporting equipment.

The Instrumented Test Vehicle (ITV) is a captive carry test vehicle used primarily for flight test integration. The ITV verifies and assesses the aircraft's ability to safely support an AMRAAM launch through the aircraft interface mechanism and the aircraft datalink antenna.

The Sensitivity of Technology Statement contained in the original notification applies to additional items reported here.

The highest level of classification of defense articles, components, and services included in this potential sale is SECRET.

(vii) Date Report Delivered to Congress: December 5, 2023

[FR Doc. 2024-27775 Filed 11-26-24; 8:45 am]

BILLING CODE 6001-FR-P